DEPARTMENT OF JUSTICE

Notice of Lodging of Consent Decree Pursuant to the Comprehensive Environmental Response, Compensation, and Liability Act

Pursuant to Section 122(d)(2) of the Comprehensive Environmental Response, Compensation, and Liability Act (“CERCLA”), 42 U.S.C. 9622(d)(2), and 28 CFR 50.7, notice is hereby given that a proposed consent decree embodying a settlement in United States v. Operating Industries, Inc., et al., No. CV 00-08794 SVW (CWX), was lodged on August 18, 2000, with the United States District Court for the Central District of California, Western Division.

In a complaint filed concurrently with the lodging of the consent decree, the United States, the State of California, and the California Hazardous Substance Account, seek injunctive relief for performance of response actions and reimbursement of response costs incurred by the United States Environmental Protection Agency (“EPA”) and by the California Department of Toxic Substances Control (“DTSC”), pursuant to Sections 106 and 107 of CERCLA, 42 U.S.C. 9606, 9607, in response to releases of hazardous substances at the Operating Industries, Inc. (“OII”) Superfund site in Monterey Park, California.

Under the proposed consent decree, the settling defendants have agreed to fund and perform future response actions at the OII Site. The consent decree also imposes obligations on, and provides benefits to Greenfield Monterey Park, LLC (“Greenfield”), an entity that intends to purchase a portion of the site for redevelopment purposes.

The consent decree requires the Owner/Operator Group, the City of Monterey Park and Southern California Edison to contribute approximately $8.65 million to a trust that will be used to pay for past and future costs of remediating the site, and the Owner/Operator Group to pay $3.1 million to the OII Custodial Trust, to be established for the purpose of receiving, holding and distributing funds in accordance with the provisions of the consent decree. If Greenfield purchases the Development Parcel it will conduct remedial action work valued at approximately $6-$7 million at the northern portion of the site and pay approximately $3,633,000 to the Owner/Operator Group which, in turn, will deposit those funds into the OII Site Custodial Trust. The Generator Group will create and administer an escrow account, and conduct certain work valued at approximately $850,000 at the OII Site. Finally, the consent decree obligates the Owner/Operator Group and the Generator Group to pay approximately $725,000 to the Casmalia Resources Hazardous Waste Management Facility (the “Casmalia Site”) to resolve their de minimis liability for hazardous leachate that was transferred from the OII Site to the Casmalia Site.

The Department of Justice will receive, for a period of thirty (30) days from the date of this publication, comments relating to the proposed consent decree. Comments should be addressed to the Assistant Attorney General for the environment and Natural Resources Division, U.S. Department of Justice, Box 7611 Ben Franklin Station, Washington, D.C. 20044-7611, and should refer to United States v. Operating Industries, Inc., et al., DOJ Ref. #90-11-2-156/3. Commenters may request a public hearing in the affected area, pursuant to Section 7003(d) of RCRA, 42 U.S.C. 6973(d).

The proposed consent decree may be examined at the EPA Region 9 Superfund Records Center, 75 Hawthorne Street, Fourth Floor, San Francisco, California 94105, and at the Office of the United States Attorney for the Central District of California, Federal Building, Room 7516, 300 North Los Angeles Street, Los Angeles, California 90012. A copy of the proposed consent decree may also be obtained by mail from the Department of Justice Consent Decree Library, Box 7611, Ben Franklin Station, Washington, D.C. 20044-7611. In requesting a copy, please refer to the referenced case and enclose a check in the amount of $212.75 (25 cents per page reproduction costs), payable to the Consent Decree Library. A copy of the decree, exclusive of the defendants' signature pages and the attachments, may be obtained for $52.50.

Walker Smith,
Deputy Chief, Environmental Enforcement Section, Environment and Natural Resources Division.

[FR Doc. 00-22134 Filed 8-29-00; 8:45 am]

BILLING CODE 4410-15-M